SUSQUEHANNA RIVER BASIN COMMISSION

Projects Approved for Minor Modifications

AGENCY: Susquehanna River Basin Commission.

ACTION: Notice.

SUMMARY: This notice lists the minor modifications approved for a previously approved project by the Susquehanna River Basin Commission during the period set forth in DATES.

DATES: February 1-29, 2020.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists previously approved projects, receiving approval of minor modifications, described below, pursuant to 18 CFR 806.18 for the time period specified above:

Minor Modifications Issued Under 18 CFR 806.18

1. New York State Canal Corporation, Docket No. 20191210, Towns of DeRuyter and Cazenovia, Madison County, and Town of Fabius, Onondaga County, N.Y.; approval to extend docket conditions (Special Conditions 14 and 15) in regard to the submittal of a comprehensive metering and monitoring plan and a final intake design; Approval Date: February 3, 2020.

2. Lancaster County Solid Waste Management Authority, Docket No. 20180908, Conoy Township, Lancaster County, Pa.; approval to correct a typographical error in Section 3 referencing the related special condition number; Approval Date: February 19, 2020.

(Authority: Pub. L. 91-575, 84 Stat. 1509 et seq., 18 CFR parts 806, 807, and 808)

Dated: March 16, 2020.
Jason E. Oyler,
General Counsel and Secretary to the Commission.

[FR Doc. 2020-05876 Filed 3-19-20; 8:45 am]

BILLING CODE 7040-01-P